DEPARTMENT OF ENERGY

Federal Energy Regulatory Commission

Combined Notice of Filings #1

Take notice that the Commission received the following electric rate filings:

Docket Numbers: ER10-2181-033.

Applicants: Nine Mile Point Nuclear Station, LLC.

Description: Notice of Change in Status of Nine Mile Point Nuclear Station, LLC.

Filed Date: 3/29/17.

Accession Number: 20170329-5155.

Comments Due: 5 p.m. ET 4/19/17.

Docket Numbers: ER11-3861-013; ER10-3079-012; ER10-3078-003; ER11-2539-005; ER11-2540-005; ER11-2542-005.

Applicants: Empire Generating Co, LLC, Tyr Energy, LLC, Plains End II, LLC, Rathdrum Power, LLC, Commonwealth Chesapeake Company, LLC, Plains End LLC.

Description: Notice of change in status of Empire Generating Co, LLC, et. al.

Filed Date: 3/28/17.

Accession Number: 20170328-5309.

Comments Due: 5 p.m. ET 4/18/17.

Docket Numbers: ER17-253-002.

Applicants: Southwest Power Pool, Inc.

Description: Tariff Amendment: Amended Filing in ER17-253-Omaha Public Power District Formula Rate Revisions to be effective 1/1/2017.

Filed Date: 3/28/17.

Accession Number: 20170328-5295.

Comments Due: 5 p.m. ET 4/18/17.

Docket Numbers: ER17-772-002.

Applicants: Southwest Power Pool, Inc.

Description: Compliance filing: Deficiency Response in ER17-772-Order No. 825 Compliance Filing to be effective N/A.

Filed Date: 3/29/17.

Accession Number: 20170329-5131.

Comments Due: 5 p.m. ET 4/19/17.

Docket Numbers: ER17-927-001.

Applicants: Wisconsin Public Service Corporation.

Description: Tariff Amendment: Amendment to Assignment—Ancillary Services & Wholesale Distribution Agmt. to be effective 2/4/2017.

Filed Date: 3/28/17.

Accession Number: 20170328-5264.

Comments Due: 5 p.m. ET 4/18/17.

Docket Numbers: ER17-1325-000.

Applicants: PPL Electric Utilities Corporation, PJM Interconnection, L.L.C.

Description: § 205(d) Rate Filing: PPL Electric Utilities Corporation submits revised IA SA No. 941 to be effective 3/29/2017.

Filed Date: 3/28/17.

Accession Number: 20170328-5273.

Comments Due: 5 p.m. ET 4/18/17.

Docket Numbers: ER17-1326-000.

Applicants: Orange and Rockland Utilities, Inc.

Description: § 205(d) Rate Filing: Attachment J—Municipal Underground Surcharge Revision to be effective 4/1/2017.

Filed Date: 3/29/17.

Accession Number: 20170329-5000.

Comments Due: 5 p.m. ET 4/19/17.

Docket Numbers: ER17-1327-000.

Applicants: Southwest Power Pool, Inc.

Description: § 205(d) Rate Filing: 607R30 Westar Energy, Inc. NITSA and NOA to be effective 3/1/2017.

Filed Date: 3/29/17.

Accession Number: 20170329-5132.

Comments Due: 5 p.m. ET 4/19/17.

Docket Numbers: ER17-1328-000.

Applicants: Southern California Edison Company.

Description: § 205(d) Rate Filing: SCE Amendments to WDAT to be effective 5/29/2017.

Filed Date: 3/29/17.

Accession Number: 20170329-5133.

Comments Due: 5 p.m. ET 4/19/17.

Docket Numbers: ER17-1329-000.

Applicants: J.P. Morgan Ventures Energy Corporation.

Description: § 205(d) Rate Filing: Change in Seller Category to be effective 3/30/2017.

Filed Date: 3/29/17.

Accession Number: 20170329-5136.

Comments Due: 5 p.m. ET 4/19/17.

Docket Numbers: ER17-1330-000.

Applicants: Southern California Edison Company.

Description: § 205(d) Rate Filing: DSA Caliente #2 Project SA No. 957 to be effective 3/30/2017.

Filed Date: 3/29/17.

Accession Number: 20170329-5137.

Comments Due: 5 p.m. ET 4/19/17.

Docket Numbers: ER17-1331-000.

Applicants: Utility Contract Funding, L.L.C.

Description: § 205(d) Rate Filing: Change in Seller Category to be effective 3/30/2017.

Filed Date: 3/29/17.

Accession Number: 20170329-5138.

Comments Due: 5 p.m. ET 4/19/17.

Docket Numbers: ER17-1332-000.

Applicants: Midcontinent Independent System Operator, Inc.

Description: § 205(d) Rate Filing: 2017-03-29_Revisions to MISO-SPP JOA to implement EARs to be effective 6/1/2017.

Filed Date: 3/29/17.

Accession Number: 20170329-5140.

Comments Due: 5 p.m. ET 4/19/17.

Docket Numbers: ER17-1333-000.

Applicants: Southwest Power Pool, Inc.

Description: § 205(d) Rate Filing: SPP-MISO JOA Congestion Management Process Revisions to be effective 6/1/2017.

Filed Date: 3/29/17.

Accession Number: 20170329-5159.

Comments Due: 5 p.m. ET 4/19/17.

Docket Numbers: ER17-1334-000.

Applicants: Duke Energy Progress, LLC.

Description: § 205(d) Rate Filing: Waynesville-DEP NITSA Amendment SA No. 303 to be effective 3/1/2017.

Filed Date: 3/29/17.

Accession Number: 20170329-5174.

Comments Due: 5 p.m. ET 4/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2017.
Kimberly D. Bose,
Secretary.

[FR Doc. 2017-06602 Filed 4-3-17; 8:45 am]

BILLING CODE 6717-01-P